DEPARTMENT OF HOUSING AND URBAN DEVELOPMENT

[Docket No. FR-4572-D-29]

Revocation of Delegation of Authority to Execute Legal Instruments Pertaining to Section 312 Rehabilitation Loans

AGENCY: Office of the Secretary, HUD.

ACTION: Notice of revocation of delegation of authority.

SUMMARY: In this notice, the Secretary revokes the delegation of authority delegated to the President of the Government National Mortgage Association (Ginnie Mae), to execute legal instruments pertaining to Section 312 loans, and to redelegate the authority to execute such legal instruments.

EFFECTIVE DATE: May 22, 2002.

FOR FURTHER INFORMATION CONTACT: Mary Kolesar, Office of Affordable Housing Programs, Department of Housing and Urban Development, 451 7th Street, SW., Washington, DC 20410, telephone number (202) 708-2470 (this is not a toll free number). This number may be accessed via TTY by calling the Federal Information Relay Service at 1-800-877-8339.

SUPPLEMENTARY INFORMATION: On May 28, 1997 (62 FR 28889), the Secretary delegated to the President, Ginnie Mae the authority to execute in the name of the Secretary certain written instruments relating to Section 312 Rehabilitation Loans, including but not limited to: Deeds of release, quit claim deeds and deeds of reconveyance; substitutions of trustees; compromises; write-offs; close outs; releases related to insurance policies; assignments or satisfactions of notes, mortgages, deeds of trust and other security instruments; and any other 2 written instruments or documents related to, or necessary for, servicing or collection of a Section 312 loan, including any such instrument related to Section 312 loan servicing-related property management and disposition functions that were not delegated to the Assistant Secretary for Housing. The May 28, 1997 delegation of authority also authorized the President, Ginnie Mae, to redelegate this authority.

This notice published in today's Federal Register revokes the delegation of authority to the President, Ginnie Mae, that was published on May 28, 1997 (62 FR 28889). This action is necessary because the Office of Community Planning and Development's Section 312 loans have been sold and the Government National Mortgage Association (Ginnie Mae) is no longer involved in servicing Section 312 loans.

Today's Federal Register notice does not affect delegations of authority to the Assistant Secretary for Community Planning and Development and to the Assistant Secretary for Housing—Federal Housing Commissioner.

Authority: Section 312 of the Housing Act of 1964, 42 U.S.C. 1452b; 12 U.S.C. 1701g-5C; and section C, Delegation of Authority, 48 FR 49384, October 25, 1983; Section 7(d), Department of Housing and Urban Development Act, 42 U.S.C. 3535(d).

Dated: May 22, 2002.
Mel Martinez,
Secretary of Housing and Urban Development.

[FR Doc. 02-29107 Filed 11-15-02; 8:45 am]

BILLING CODE 4210-32-P